DEPARTMENT OF COMMERCE

National Oceanic and Atmospheric Administration

[0648-XR004]

Marine Mammals; File No. 21163

AGENCY: National Marine Fisheries Service (NMFS), National Oceanic and Atmospheric Administration (NOAA), Commerce.

ACTION: Notice; receipt of application.

SUMMARY: Notice is hereby given that Marine Ecology and Telemetry Research, 2468 Camp McKenzie Trl NW, Seabeck, WA 98380 (Responsible Party: Greg Schorr), has applied in due form for a permit to conduct research on and import specimens of 38 marine mammal species including the following endangered species and Distinct Population Segments (DPSs): Cook Inlet DPS of beluga whale (Delphinapterus leucas), blue whale (Balaenoptera musculus), Main Hawaiian Islands Insular DPS of false killer whale (Pseudorca crassidens), fin whale (B. physalus), Western North Pacific DPS and Central America DPS of humpback whale (Megaptera novaeangliae), Southern resident DPS of killer whale (Orcinus orca), North Pacific right whale (Eubalaena japonica), sei whale (B. borealis), and sperm whale (Physeter macrocephalus).

DATES: Written, telefaxed, or email comments must be received on or before July 26, 2019.

ADDRESSES: The application and related documents are available for review by selecting “Records Open for Public Comment” from the “Features” box on the Applications and Permits for Protected Species (APPS) home page, https://apps.nmfs.noaa.gov, and then selecting File No. 21163 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a five-year permit to assess the biology and ecology of cetaceans in U.S. and international waters along the U.S. west coast south to the Baja California Peninsula, Hawaii and Alaska. The main research objectives are to investigate cetacean (1) distribution, abundance, stock structure, habitat use and demographics, (2) behavioral ecology, (3) population health and exposure to potential stressors, and (4) behavioral responses to military sound sources. Research would be conducted from vessel and aerial platforms (manned and unmanned aircraft systems), for: Counts, sample collection (prey remains, fecal, sloughed skin, skin and blubber biopsy, breath), observations, acoustic recordings, acoustic playbacks, photo-identification, videography, photogrammetry, tagging and tracking. Researchers may incidentally disturb seven pinniped species, including the endangered Western DPS of Steller sea lion (Eumetopias jubatus) and Hawaiian monk seals (Neomonachus schauinslandi), during studies. Biological samples collected in international waters may be imported and re-exported. See the application for take numbers requested.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 21, 2019.
Julia Marie Harrison,
Chief, Permits and Conservation Division, Office of Protected Resources, National Marine Fisheries Service.

[FR Doc. 2019-13565 Filed 6-25-19; 8:45 am]

BILLING CODE 3510-22-P